DEPARTMENT OF HOMELAND SECURITY

Federal Emergency Management Agency

[Docket ID FEMA-2013-0002; Internal Agency Docket No. FEMA-B-1359]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 30, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1359, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Non-watershed-based studies:

Community | Community map repository address
Cecil County, Maryland, and Incorporated Areas
Maps Available for Inspection Online at: http://www.fema.gov/preliminaryfloodhazarddata
Town of Charlestown | Town Hall, 241 Market Street, Charlestown, MD 21914.
Town of Chesapeake City | Town Hall, 108 Bohemia Avenue, Chesapeake City, MD 21915.
Town of Elkton | Town Hall, 100 Railroad Avenue, Elkton, MD 21921.
Town of North East | Town Hall, 106 South Main Street, North East, MD 21901.
Town of Perryville | Town Hall, 515 Broad Street, Perryville, MD 21903.
Town of Port Deposit | Town Hall, 64 South Main Street, Port Deposit, MD 21904.
Unincorporated Areas of Cecil County | Cecil County Office Administrative Building, 200 Chesapeake Boulevard, Elkton, MD 21921.
Dorchester County, Maryland, and Incorporated Areas
Maps Available for Inspection Online at: http://www.fema.gov/preliminaryfloodhazarddata
City of Cambridge | Department of Public Works, 1025 Washington Street, Cambridge, MD 21613.
Town of Brookview | Brookview Town Council Office, 5649 Indian Town Road, Rhodesdale, MD 21659.
Town of Church Creek | Fire Hall, 1902 Church Creek Road, Church Creek, MD 21622.
Town of Eldorado | Eldorado Town Commission Office, 5753 Eldorado Road, Rhodesdale, MD 21659.
Town of Galestown | Town Hall, 5538 Old Schoolhouse Road, Galestown, MD 19973.
Town of Hurlock | Town Council Office, 311 Charles Street, Hurlock, MD 21643.
Town of Secretary | Town Commission Office, 122 Main Street, Secretary, MD 21664.
Town of Vienna | Town Hall, 214 Market Street, Vienna, MD 21869.
Unincorporated Areas of Dorchester County | Dorchester County Office Building, 501 Court Lane, Cambridge, MD 21613.
Talbot County, Maryland, and Incorporated Areas
Maps Available for Inspection Online at: http://www.fema.gov/preliminaryfloodhazarddata
Town of Easton | Town Hall, 14 South Harrison Street, Easton, MD 21601.
Town of Oxford | Municipal Building, 101 Market Street, Oxford, MD 21654.
Town of St. Michaels | Edgar M. Bosley, Jr. Municipal Building, 300 Mill Street, St. Michaels, MD 21663.
Unincorporated Areas of Talbot County | Talbot County Office of Planning and Permits, 215 Bay Street, Suite 2, Easton, MD 21601.
Worcester County, Maryland, and Incorporated Areas
Maps Available for Inspection Online at: http://www.fema.gov/preliminaryfloodhazarddata
City of Pocomoke City | City Hall, 101 Clarke Avenue, Pocomoke City, MD 21851.
Town of Berlin | Town Hall, 10 William Street, Berlin, MD 21811.
Town of Ocean City | City Hall, 301 Baltimore Avenue, Ocean City, MD 21842.
Town of Snow Hill | Municipal Building, 103 Bank Street, Snow Hill, MD 21863.
Unincorporated Areas of Worcester County | Worcester County Government Center, 1 West Market Street, Room 1201, Snow Hill, MD 21863.
Mercer County, New Jersey (All Jurisdictions)
Maps Available for Inspection Online at: http://www.fema.gov/preliminaryfloodhazarddata
Borough of Hightstown | Clerk's Office, 156 Bank Street, Hightstown, NJ 08520.
Borough of Hopewell | Clerk's Office, 88 Broad Street, Hopewell, NJ 08525.
Borough of Pennington | Borough Hall, 30 North Main Street, Pennington, NJ 08534.
Borough of Princeton | Office of Engineering, 400 Witherspoon Street, Princeton, NJ 08540.
City of Trenton | Trenton Fire Department, 244 Perry Street, Trenton, NJ 08618.
Township of East Windsor | Engineering Department, 16 Lanning Boulevard, East Windsor, NJ 08520.
Township of Ewing | Construction Office, 2 Jake Garzio Drive, Ewing, NJ 08628.
Township of Hamilton | Municipal Building, 2090 Greenwood Avenue, Room 307, Hamilton, NJ 08609.
Township of Hopewell | Hopewell Township Zoning Office, 201 Washington Crossing Pennington Road, Titusville, NJ 08560.
Township of Lawrence | Engineering Office, 2207 Lawrence Road, Lawrence, NJ 08648.
Township of Robbinsville | Planning and Zoning Department, 1 Washington Boulevard, Robbinsville, NJ 08691.
Township of West Windsor | Community Development Department, 271 Clarksville Road, West Windsor, NJ 08550.
King and Queen County, Virginia, and Incorporated Areas
Maps Available for Inspection Online at: http://www.fema.gov/preliminaryfloodhazarddata
Unincorporated Areas of King and Queen County | King and Queen County Complex Building, County Administrator's Office, 242 Allens Circle, Suite L, King and Queen Courthouse, VA 23085.
King George County, Virginia (All Jurisdictions)
Maps Available for Inspection Online at: http://www.fema.gov/preliminaryfloodhazarddata
King George County (All Jurisdictions) | King George Community Development Department, 10459 Courthouse Drive, Suite 104, King George, VA 22485.
Northampton County, Virginia, and Incorporated Areas
Maps Available for Inspection Online at: http://www.fema.gov/preliminaryfloodhazarddata
Town of Cape Charles | Town Hall, 2 Plum Street, Cape Charles, VA 23310.
Town of Cheriton | Northampton County Department of Planning and Zoning, 16404 Courthouse Road, Eastville, VA 23347.
Unincorporated Areas of Northampton County | Northampton County Department of Planning and Zoning, 16404 Courthouse Road, Eastville, VA 23347.
Stafford County, Virginia (All Jurisdictions)
Maps Available for Inspection Online at: http://www.fema.gov/preliminaryfloodhazarddata
Stafford County (All Jurisdictions) | Stafford County Administration Center, Department of Code Administration, 1300 Courthouse Road, Stafford, VA 22554.

(Catalog of Federal Domestic Assistance No. 97.022, “Flood Insurance.”)

Dated: December 18, 2013.
Roy E. Wright,
Deputy Associate Administrator for Mitigation, Department of Homeland Security, Federal Emergency Management Agency.

[FR Doc. 2014-01802 Filed 1-29-14; 8:45 am]

BILLING CODE 9110-12-P